DEPARTMENT OF THE INTERIOR

Bureau of Land Management

[PO4820000251]

New Recreation Fee Areas on Public Lands Managed by the BLM Coeur d'Alene Field Office, Idaho

AGENCY: Bureau of Land Management, Interior.

ACTION: Notice of new recreation fee area.

SUMMARY: Pursuant to the Federal Lands Recreation Enhancement Act (FLREA), the Bureau of Land Management (BLM) Coeur d'Alene Field Office will establish day-use fees at Mica Bay Boater Park and Killarney Lake Campground and Access, located in Kootenai County; and at the Huckleberry Campground in Shoshone County.

DATES: Starting July 10, 2025, the BLM Coeur d'Alene Field Office will begin charging day-use fees.

ADDRESSES: Copies of relevant supporting documents for this action may be reviewed at the BLM Coeur d'Alene Field Office, 3232 W Nursery Rd., Coeur d'Alene, ID 83815 and online at https://on.doi.gov/3qfe3I0.

FOR FURTHER INFORMATION CONTACT: Michael Traver-Greene, public affairs officer, BLM Coeur d'Alene District Office, email: BLM_ID_CoeurdAleneOffice@blm.gov; telephone: 208-769-5000. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM is committed to provide and receive fair value for the use of developed recreation facilities and services in a manner that meets public-use demands, provides quality experiences, and protects important resources. The BLM's policy is to collect fees at specialized recreation sites, or where the BLM provides facilities, equipment, or services at Federal expense in connection with outdoor use.

To meet increasing demands for services and maintenance at Mica Bay Boater Park, Killarney Lake Campground and Access, and Huckleberry Campground, the BLM will establish a fee program for day-use recreation. These day-use fees address facility maintenance and public-safety needs, due to increased use and costs of operation. The fees will enable the BLM to improve services, add amenities desired by visitors, and help offset costs. Field office management plans to establish day-use fees at $5 per day per group of up to 10 individuals or per vehicle for the 2025 recreation season. Day-use fees will increase incrementally over the next 4 years, reaching $10 per day by 2029. The phased approach will involve two increases: the first to $7 for the 2027 recreation season, and the final increase to $10 two years later. The Huckleberry Campground extra vehicle/utility trailer fee will be the same as the day-use fee each year. The Mica Bay Pavilion group day-use rental fee will increase to $80 for the 2025 recreation season, increase to $90 for the 2027 recreation season, and increase to $100 for the 2029 recreation season.

The FLREA directs the Secretary of the Interior and Secretary of Agriculture to publish an advance notice in the Federal Register of the establishment of a new recreation fee area under their respective jurisdictions. In accordance with BLM policy, the business plans for the Mica Bay Boater Park, Killarney Lake Campground and Access, and Huckleberry Campground explain the fee collection process and how fees will be used at these sites. A public comment period on the draft business plan, announced by news release, ran from June 11 to July 10, 2024. The BLM Idaho Resource Advisory Council (RAC), functioning as a Recreation RAC, reviewed and approved the proposals to charge day-use fees at the above listed sites on July 11, 2024. Fee amounts will be posted on-site and at the BLM Coeur d'Alene Field Office. Copies of the business plans will be available at the BLM Coeur d'Alene Field Office as listed in the ADDRESSES section. Any planned fee increases will be implemented in phases as outlined in the business plan. Any future adjustments in the fee amount beyond the phased fee increases will follow the appropriate business plan process and will include consultation with the Idaho RAC and other public notice. Recreation use fees would be consistent with other established fee sites in the area managed by the BLM and other Federal and State land management agencies.

(Authority: 16 U.S.C. 6803(b))

Kurt K. Pindel,
BLM Coeur d'Alene District Manager.

[FR Doc. 2025-00396 Filed 1-8-25; 8:45 am]

BILLING CODE 4331-19-P